DEPARTMENT OF HEALTH AND HUMAN SERVICES

National Institutes of Health

Center for Scientific Review; Amended Notice of Meeting

Notice is hereby given of a change in the meeting of the Center for Scientific Review Special Emphasis Panel, March 6, 2006, 4 p.m. to March 6, 2006, 5:30 p.m., National Institutes of Health, 6701 Rockledge Drive, Bethesda, MD 20892 which was published in the Federal Register on February 15, 2006, 71 FR 7985-7987.

The meeting will be held March 12, 2006, from 8 p.m. to 9 p.m. The meeting location remains the same. The meeting is closed to the public.

Dated: March 3, 2006.
Anna Snouffer,
Acting Director, Office of Federal Advisory Committee Policy.

[FR Doc. 06-2281 Filed 3-9-06; 8:45 am]

BILLING CODE 4140-01-M